DEPARTMENT OF THE INTERIOR

National Park Service

[N6789; NPS-WASO-NAGPRA-NPS0041558; PPWOCRADN0-PCU00RP14.R50000]

Notice of Intended Repatriation: Minnesota Historical Society, St. Paul, MN

AGENCY: National Park Service, Interior.

ACTION: Notice.

SUMMARY: In accordance with the Native American Graves Protection and Repatriation Act (NAGPRA), the Minnesota Historical Society (MNHS) intends to repatriate a certain cultural item that meets the definition of a sacred object and that has a known lineal descendant.

DATES: Repatriation of the cultural item in this notice may occur on or after January 20, 2026.

ADDRESSES: Send additional, written requests for repatriation of the cultural item in this notice to Cecily Marcus, Minnesota Historical Society, 345 West Kellogg Blvd., Saint Paul, MN 55102, email cecily.marcus@mnhs.org.

SUPPLEMENTARY INFORMATION: This notice is published as part of the National Park Service's administrative responsibilities under NAGPRA. The determinations in this notice are the sole responsibility of the Minnesota Historical Society, and additional information on the determinations in this notice, including the results of consultation, can be found in the summary or related records. The National Park Service is not responsible for the determinations in this notice.

Abstract of Information Available

A total of one cultural item has been requested for repatriation. The one sacred object is a pipe bowl and stem (MNHS #1797 A,B). According to the history inscribed on the pipe stem, the pipe belonged to Medweganoonnid (also spelled Mdwegwanonind and Mah-deva-ga-no-nind), “the head chief of the Red Lake Indians—Ojibways” and was gifted to Bishop Henry Benjamin Whipple (d.1901) by Chief Kay-bay-no-ding, son of Medweganoonnid. The pipe was purchased by the Minnesota Daughters of the Revolution Chapters in 1939 as part of the Bishop Whipple Indian Collection, which was later transferred to Minnesota Historical Society as part of the Sibley House transfer by the Sibley House Association of the Minnesota Daughters of the American Revolution on May 21, 1996. No potentially hazardous substances are known to have been used to treat this item.

Determinations

The Minnesota Historical Society has determined that:

• The one sacred object described in this notice is a specific ceremonial object needed by a traditional Native American religious leader for present-day adherents to practice traditional Native American religion, according to the Native American traditional knowledge of a lineal descendant, Indian Tribe, or Native Hawaiian organization.

• Daniel King is connected to the cultural item described in this notice.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 20, 2026. If competing requests for repatriation are received, the Minnesota Historical Society must determine the most appropriate requestor prior to repatriation. Requests for joint repatriation of the cultural item are considered a single request and not competing requests. The Minnesota Historical Society is responsible for sending a copy of this notice to all requestors and any other consulting parties.

Authority: Native American Graves Protection and Repatriation Act, 25 U.S.C. 3004 and the implementing regulations, 43 CFR 10.9.

Dated: December 8, 2025.
Melanie O'Brien,
Manager, National NAGPRA Program.

[FR Doc. 2025-23367 Filed 12-18-25; 8:45 am]

BILLING CODE 4312-52-P